DEPARTMENT OF TRANSPORTATION

Federal Aviation Administration

14 CFR Part 71

[Docket No. FAA-2008-0186; Airspace Docket No. 08-ANM-2]

RIN 2120-AA66

Revision of Legal Descriptions of Multiple Federal Airways in the Vicinity of Farmington, NM

AGENCY: Federal Aviation Administration (FAA), DOT.

ACTION: Final rule; technical amendment.

SUMMARY: This technical amendment corrects an error in the airspace description of a final rule published in the Federal Register on July 21, 2003 (68 FR 42962), Docket No. FAA-2002-13013, Airspace Docket No. 02-ANM-10. In that rule, the description of Jet Route 10 (J-10) was incorrect. This is an administrative correction to a published legal description. Additionally, the cite for J-10 was incorrectly written as paragraph 6010(a) Domestic VOR Federal Airways: This will be corrected to “paragraph 2006 Jet Routes”.

DATES: Effective Date: 0901 UTC, June 13, 2008. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On May 27, 2003, a final rule was published in the Federal Register (68 FR 28707) Revision of J-10. This action realigned J-10 from Farmington, NM to the Flagstaff, AZ Very High Omnidirectional Radio Range Tactical Air Navigation (VORTAC) by removing a route segment via the Drake, AZ. VORTAC. On July 21, 2003, a final rule was published in the Federal Register (68 FR 42962) Airspace Docket No. 02-ANM-10, changing the name of the Farmington VORTAC to the Rattlesnake VORTAC. In that rule, J-10 was written with the route segment that was removed in (68 FR 28707). This action corrects this error by removing “via the Drake, AZ 262° radials;” and inserting “Flagstaff 251° radials; Flagstaff, AZ.”

Correction to Final Rule

Accordingly, pursuant to the authority delegated to me, the reference to airspace description as published in the Federal Register on July 21, 2003 (68 FR 42962), Airspace Docket No. 02-ANM-10, FAA Docket No. FAA-2002-13013, and incorporation by reference in 14 CFR 71.1, is corrected as follows:

§ 71.1 [Amended]

Paragraph 2004—Jet Routes

* * * * *

J-10 [Amended]

From Los Angeles, CA; via INT Los Angeles 083° and Twentynine Palms, CA, 269° radials; Twentynine Palms; INT of Twentynine Palms 075° and Flagstaff 251°, radials; Flagstaff, AZ; Rattlesnake, NM, Blue Mesa, CO; Falcon, CO; North Platte, NE; Wolbach, NE; Des Moines, IA; to Iowa City, IA.

* * * * *

Issued in Washington, DC, on May 19, 2008.
Stephen L. Rohring,
Acting Manager, Airspace and Rules Group.

[FR Doc. E8-11966 Filed 6-12-08; 8:45 am]

BILLING CODE 4910-13-P